DEPARTMENT OF ENERGY

Federal Energy Regulatory Commission

Combined Notice of Filings #1

Take notice that the Commission received the following electric rate filings:

Docket Numbers: ER10-1285-009.

Applicants: Craven County Wood Energy Limited Partnership.

Description: Supplement to August 6, 2020 Notice of Non-Material Change in Status of Craven County Wood Energy Limited Partnership.

Filed Date: 3/12/21.

Accession Number: 20210312-5143.

Comments Due: 5 p.m. ET 4/2/21.

Docket Numbers: ER16-1720-017.

Applicants: Invenergy Energy Management LLC.

Description: Notice of Change in Facts under Market-Based Rate Authority of Invenergy Energy Management LLC.

Filed Date: 3/17/21.

Accession Number: 20210317-5040.

Comments Due: 5 p.m. ET 4/7/21.

Docket Numbers: ER17-194-005.

Applicants: Hartree Partners, LP.

Description: Supplement to June 30, 2020 Updated Market Power Analysis for the Northeast Region of Hartree Partners, LP.

Filed Date: 3/16/21.

Accession Number: 20210316-5215.

Comments Due: 5 p.m. ET 4/6/21.

Docket Numbers: ER20-2597-002; ER20-1991-002; ER20-2153-003; ER20-2380-002.

Applicants: Soldier Creek Wind, LLC, Ponderosa Wind, LLC, Sanford Airport Solar, LLC, Saint Solar, LLC.

Description: Supplement to January 15, 2021 Notice of Non-Material Change in Status of Soldier Creek Wind, LLC, et al.

Filed Date: 3/15/21.

Accession Number: 20210315-5423.

Comments Due: 5 p.m. ET 4/5/21.

Docket Numbers: ER21-1137-001.

Applicants: NorthWestern Corporation.

Description: Compliance filing: Errata to Compliance Filing re Authority to Transact at MBR in the EIM to be effective 2/8/2021.

Filed Date: 3/15/21.

Accession Number: 20210315-5302.

Comments Due: 5 p.m. ET 4/5/21.

Docket Numbers: ER21-1251-000.

Applicants: Bighorn Solar 1, LLC.

Description: Supplement to March 2, 2021 Bighorn Solar 1, LLC tariff filing.

Filed Date: 3/16/21.

Accession Number: 20210316-5188.

Comments Due: 5 p.m. ET 4/6/21.

Docket Numbers: ER21-1451-000.

Applicants: Cleveland-Cliffs Steel LLC.

Description: Baseline eTariff Filing: Baseline new generic title to be effective 3/16/2021.

Filed Date: 3/16/21.

Accession Number: 20210316-5159.

Comments Due: 5 p.m. ET 4/6/21.

Docket Numbers: ER21-1452-000.

Applicants: Delta's Edge Solar, LLC.

Description: Initial rate filing: Proposed Revenue Requirement for Reactive Service from the Deltas Edge Facility to be effective 12/31/9998.

Filed Date: 3/16/21.

Accession Number: 20210316-5160.

Comments Due: 5 p.m. ET 4/6/21.

Docket Numbers: ER21-1453-000.

Applicants: Crossett Solar Energy, LLC.

Description: Initial rate filing: Proposed Revenue Requirement for Reactive Service from Crossett Solar Facility to be effective 12/31/9998.

Filed Date: 3/16/21.

Accession Number: 20210316-5163.

Comments Due: 5 p.m. ET 4/6/21.

Docket Numbers: ER21-1454-000.

Applicants: Midcontinent Independent System Operator, Inc., American Transmission Company LLC.

Description: § 205(d) Rate Filing: 2021-03-17_SA 2800 ATC-City of Stoughton 1st Rev CFA to be effective 5/17/2021.

Filed Date: 3/17/21.

Accession Number: 20210317-5019.

Comments Due: 5 p.m. ET 4/7/21.

Docket Numbers: ER21-1455-000.

Applicants: Southwest Power Pool, Inc.

Description: § 205(d) Rate Filing: 3499R2 Poplar Bluff Municipal Utilities NITSA NOA to be effective 3/1/2021.

Filed Date: 3/17/21.

Accession Number: 20210317-5028.

Comments Due: 5 p.m. ET 4/7/21.

Docket Numbers: ER21-1456-000.

Applicants: Midcontinent Independent System Operator Inc., American Transmission Company LLC.

Description: § 205(d) Rate Filing: 2021-03-17_SA 2777 ATC-Wisconsin Rapids 1st Rev CFA to be effective 5/17/2021.

Filed Date: 3/17/21.

Accession Number: 20210317-5031.

Comments Due: 5 p.m. ET 4/7/21.

Docket Numbers: ER21-1457-000.

Applicants: Central Maine Power Company.

Description: Notice of Cancellation of Service Agreement No. 154 of Central Maine Power Company.

Filed Date: 3/16/21.

Accession Number: 20210316-5219.

Comments Due: 5 p.m. ET 4/6/21.

Docket Numbers: ER21-1458-000.

Applicants: Southwest Power Pool, Inc.

Description: § 205(d) Rate Filing: 2415R14 Kansas Municipal Energy Agency NITSA and NOA to be effective 3/1/2021.

Filed Date: 3/17/21.

Accession Number: 20210317-5032.

Comments Due: 5 p.m. ET 4/7/21.

Docket Numbers: ER21-1459-000.

Applicants: Georgia Power Company.

Description: Initial rate filing: SR Perry Affected System Construction Agreement (GPAS 013) Filing to be effective 10/7/2020.

Filed Date: 3/17/21.

Accession Number: 20210317-5106.

Comments Due: 5 p.m. ET 4/7/21.

Docket Numbers: ER21-1460-000.

Applicants: Georgia Power Company.

Description: Initial rate filing: SR Clay Affected System Construction Agreement (GPAS 014) Filing to be effective 2/5/2021.

Filed Date: 3/17/21.

Accession Number: 20210317-5107.

Comments Due: 5 p.m. ET 4/7/21.

Docket Numbers: ER21-1461-000.

Applicants: PJM Interconnection, L.L.C.

Description: § 205(d) Rate Filing: Original ISA, SA No. 5986; Queue No. AE2-254 to be effective 2/19/2021.

Filed Date: 3/17/21.

Accession Number: 20210317-5127.

Comments Due: 5 p.m. ET 4/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 17, 2021.
Nathaniel J. Davis, Sr.,
Deputy Secretary.

[FR Doc. 2021-05932 Filed 3-22-21; 8:45 am]

BILLING CODE 6717-01-P